DEPARTMENT OF LABOR

Office of the Secretary

Agency Information Collection Activities; Submission for OMB Review; Comment Request; Prohibiting Discrimination Based on Sexual Orientation and Gender Identity by Contractors and Subcontractors

ACTION: Notice.

SUMMARY: The Department of Labor (DOL) is submitting the Office of Federal Contract Compliance Programs (OFCCP) sponsored information collection request (ICR) titled, “Prohibiting Discrimination Based on Sexual Orientation and Gender Identity by Contractors and Subcontractors,” to the Office of Management and Budget (OMB) for review and approval for continued use, without change, in accordance with the Paperwork Reduction Act of 1995 (PRA), 44 U.S.C. 3501 et seq. Public comments on the ICR are invited.

DATES: The OMB will consider all written comments that agency receives on or before August 24, 2015.

ADDRESSES: A copy of this ICR with applicable supporting documentation; including a description of the likely respondents, proposed frequency of response, and estimated total burden may be obtained free of charge from the RegInfo.gov Web site at http://www.reginfo.gov/public/do/PRAViewICR?ref_nbr=201504-1250-001 (this link will only become active on the day following publication of this notice) or by contacting Michel Smyth by telephone at 202-693-4129, TTY 202-693-8064, (these are not toll-free numbers) or by email at DOL_PRA_PUBLIC@dol.gov.

Submit comments about this request by mail or courier to the Office of Information and Regulatory Affairs, Attn: OMB Desk Officer for DOL-OFCCP, Office of Management and Budget, Room 10235, 725 17th Street, NW., Washington, DC 20503; by Fax: 202-395-5806 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Contact Michel Smyth by telephone at 202-693-4129, TTY 202-693-8064, (these are not toll-free numbers) or by email at DOL_PRA_PUBLIC@dol.gov.

Authority: 44 U.S.C. 3507(a)(1)(D).

SUPPLEMENTARY INFORMATION: This ICR seeks to extend PRA authority for the Prohibiting Discrimination Based on Sexual Orientation and Gender Identity by Contractors and Subcontractors information collection codified in regulations 41 CFR parts 60-1, 60-2, 60-3, 60-4, and 60-50. Among other things, these regulations set forth information disclosure and reporting requirements for covered Federal contractors, subcontractors, and federally assisted construction contractors and subcontractors (collectively referred to as contractors). This information collection request supports the final rule published December 8, 2014, (79 FR 72703) implementing Executive Order 11246, Equal Employment Opportunity (published September 28, 1965, 30 FR 12319) and Executive Order 13672, Further Amendments to Executive Order 11478, Equal Employment Opportunity in the Federal Government, and Executive Order 11246, Equal Employment Opportunity (published July 23, 2014, 79 FR 42971).

The final rule sets forth the following information disclosure and reporting requirements for covered Federal contractors: (1) Contractors must incorporate specific language into the equal opportunity clause used in covered subcontracts and purchase orders; (2) contractors are expressly to state in solicitations for employees that all qualified applicants will receive consideration for employment without regard to race, color, religion, sex, sexual orientation, gender identity, or national origin; and (3) contractors are to disclose when their employees or prospective employees are denied a visa of entry to a country in which or with which the contractors are doing business. Executive Order 11246, “Equal Employment Opportunity,” section 202; and Executive Order 13672, “Further Amendments to Executive Order 11478, Equal Employment Opportunity in the Federal Government,” section 2 authorize this information collection. See E.O. 11246 section 202 (published September 28, 1965, 30 FR 12319) and E.O. 13672 section 2 (published July 23, 2014, 79 FR 42971).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1250-0009.

OMB authorization for an ICR cannot be for more than three (3) years without renewal, and the current approval for this collection is scheduled to expire September 30, 2015. The DOL seeks to extend PRA authorization for this information collection for three (3) more years, without any change to existing requirements. The DOL notes that existing information collection requirements submitted to the OMB receive a month-to-month extension while they undergo review. For additional substantive information about this ICR, see the related final rule published in the Federal Register on December 8, 2014 (79 FR 72703).

Interested parties are encouraged to send comments to the OMB, Office of Information and Regulatory Affairs at the address shown in the ADDRESSES section within thirty (30) days of publication of this notice in the Federal Register. In order to help ensure appropriate consideration, comments should mention OMB Control Number 1250-0009. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OFCCP.

Title of Collection: Prohibiting Discrimination Based on Sexual Orientation and Gender Identity by Contractors and Subcontractors.

OMB Control Number: 1250-0009.

Affected Public: Private Sector—businesses or other for-profits, farms, and not-for-profit institutions.

Total Estimated Number of Respondents: 200,000.

Total Estimated Number of Responses: 200,000.

Total Estimated Annual Time Burden: 38,769 hours.

Total Estimated Annual Other Costs Burden: $0.

Dated: July 17, 2015.
Michel Smyth,
Departmental Clearance Officer.

[FR Doc. 2015-18067 Filed 7-22-15; 8:45 am]

BILLING CODE 4510-CM-P